Proclamation 9472 of July 25, 2016

National Korean War Veterans Armistice Day, 2016

By the President of the United States of America

A Proclamation

In 1950, when Communist armies from the North stormed across the 38th parallel, brave American men and women—though weary of combat in the wake of World War II—stepped forward to defend their brothers and sisters on the Korean Peninsula. Over the course of 3 years, through unforgiving weather and severe danger, nearly 1.8 million Americans joined in the fight and faced down Communism—pushing the invading armies back and protecting a people on the other side of the world. As we mark the 63rd anniversary of the Military Armistice Agreement that brought an end to this war, we pause to honor the strength and resilience of our Korean War veterans, whose spirits and stories serve as an inspiration to continue advancing freedom's cause.

Rising from occupation and ruin, the Republic of Korea today shines as a thriving, modern country, whose people can take comfort in knowing that the commitment of the United States to their stability and security will never waver. Fifty million South Koreans now live in freedom, reaching for their dreams and pursuing opportunities in a vibrant democracy and dynamic economy—always realizing they have a partner who will stand shoulder-to-shoulder with them in defense of peace and prosperity. Our lasting friendship and unbreakable alliance are sustained by the beliefs we hold in common and the values we cherish.

As we pay tribute to the Americans who gallantly helped forge this bond, we know our solemn responsibilities to our fallen and their loved ones persist long after the battle ends. More than 7,800 Americans are still missing from the Korean War, and we will not stop working to live up to our obligations to their families. We owe all our service members an enormous debt of gratitude. To honor the full weight of the sacrifices made by those who serve, we must uphold our Nation's promise to our veterans when they return home, and fulfill our commitment to all who wear the uniform in our name.

On National Korean War Veterans Armistice Day, we pay tribute to the American patriots who fought for freedom and democracy throughout the Korean War, leaving behind everyone they loved to secure the blessings of liberty for a country they never knew and a people they had never met. For the heavy price they paid, we will forever honor the legacy of their service and uphold the ideals they secured through this hard-won victory.

NOW, THEREFORE, I, BARACK OBAMA, President of the United States of America, by virtue of the authority vested in me by the Constitution and the laws of the United States, do hereby proclaim July 27, 2016, as National Korean War Veterans Armistice Day. I call upon all Americans to observe this day with appropriate ceremonies and activities that honor our distinguished Korean War veterans.

IN WITNESS WHEREOF, I have hereunto set my hand this twenty-fifth day of July, in the year of our Lord two thousand sixteen, and of the Independence of the United States of America the two hundred and forty-first.

[FR Doc. 2016-18088

Filed 7-27-16; 11:15 am]

Billing code 3295-F6-P